DEPARTMENT OF ENERGY

Federal Energy Regulatory Commission

[Project No. 13511-010]

Igiugig Village Council; Notice Of Intent to File License Application, Filing of Pre-Application Document, And Approving Use of The Traditional Licensing Process

a. Type of Filing: Notice of Intent to File License Application and Request to Use the Traditional Licensing Process.

b. Project No.: 13511-010.

c. Date Filed: October 29, 2025.

d. Submitted By: Igiugig Village Council.

e. Name of Project: Igiugig Hydrokinetic Project.

f. Location: Within the Kvichak River adjacent to the Village of Igiugig, in the Lake and Peninsula Borough of Alaska.

g. Filed Pursuant to: 18 CFR 5.3 of the Commission's regulations.

h. Potential Applicant Contact: AlexAnna Salmon, President, Igiugig Village Council, P.O. Box 4008, Igiugig, Alaska 99613-4009; email alexanna.salmon@igiugig.gov; phone (907) 533-3211; or Nathan Johnson, ORPC, njohnson@orpc.co.

i. FERC Contact: Amy Chang at (202) 502-6154; or email at amy.chang@ferc.gov.

j. Igiugig Village Council filed a request to use the Traditional Licensing Process on October 29, 2025. Igiugig Village Council provided public notice of its request on October 29, 2025. In a letter dated December 22, 2025, the Director of the Division of Hydropower Licensing approved Igiugig Village Council's request to use the Traditional Licensing Process.

k. With this notice, we are initiating informal consultation with the U.S. Fish and Wildlife Service and/or the National Marine Fisheries Service (NMFS) under section 7 of the Endangered Species Act and the joint agency regulations thereunder at 50 CFR, Part 402; and NMFS under section 305(b) of the Magnuson-Stevens Fishery Conservation and Management Act and implementing regulations at 50 CFR 600.920. We are also initiating consultation with the Alaska State Historic Preservation Officer, as required by section 106, National Historic Preservation Act, and the implementing regulations of the Advisory Council on Historic Preservation at 36 CFR 800.2.

l. With this notice, we are designating Igiugig Village Council as the Commission's non-federal representative for carrying out informal consultation pursuant to section 7 of the Endangered Species Act and consultation pursuant to section 106 of the National Historic Preservation Act.

m. Igiugig Village Council filed a Pre-Application Document (PAD; including a proposed process plan and schedule) with the Commission, pursuant to 18 CFR 5.6 of the Commission's regulations.

n. A copy of the PAD may be viewed and/or printed on the Commission's website (http://www.ferc.gov), using the “eLibrary” link. Enter the docket number, excluding the last three digits in the docket number field to access the document. For assistance, contact FERC at FERCOnlineSupport@ferc.gov or call toll free, (886) 208-3676 or TTY (202) 502-8659.

You may register online at https://ferconline.ferc.gov/FERCOnline.aspx to be notified via email of new filings and issuances related to this or other pending projects. For assistance, contact FERC Online Support.

o. The licensee states its unequivocal intent to submit an application for a new license for Project No. 13511-010. Pursuant to Pursuant to 18 CFR 16.8, 16.9, and 16.10 each application for a new license and any competing license applications must be filed with the Commission at least 24 months prior to the expiration of the existing license. All applications for license for this project must be filed by April 30, 2027.

p. For public inquiries and assistance with making filings such as interventions, comments, or requests for rehearing, contact the Office of Public Participation at (202) 502-6595 or OPP@ferc.gov.

(Authority: 18 CFR 2.1)

Dated: December 22, 2025.
Debbie-Anne A. Reese,
Secretary.

[FR Doc. 2025-24027 Filed 12-30-25; 8:45 am]

BILLING CODE 6717-01-P